DEPARTMENT OF HEALTH AND HUMAN SERVICES

National Institutes of Health

Center for Scientific Review; Amended Notice of Meeting

Notice is hereby given of a change in the meeting of the Center for Scientific Review Special Emphasis Panel, June 4, 2009, 8 a.m. to June 4, 2009, 5 p.m., National Institutes of Health, 6701 Rockledge Drive, Bethesda, MD 20892 which was published in the Federal Register on May 5, 2009, 74 FR 20712-70715.

The starting time of the meeting on June 4, 2009 has been changed to 1:30 p.m. until adjournment. The meeting date and location remain the same. The meeting is closed to the public.

Dated: May 18, 2009.
Jennifer Spaeth,
Director, Office of Federal Advisory Committee Policy.

[FR Doc. E9-12264 Filed 5-26-09; 8:45 am]

BILLING CODE 4140-01-P